NATIONAL COUNCIL ON DISABILITY

Sunshine Act Meeting

Type: Open house and quarterly meeting.

Agency: National Council on Disability.

Summary: This notice sets forth the schedules and proposed agendas of the upcoming open house and quarterly meeting of the National Council on Disability (NCD). Notice of these meetings is required under Section 522b(e)(1) of the Government in the Sunshine Act, (P.L. 94-409).

Open House Date: November 5, 2001, 4:30 p.m. to 6 p.m.

Location: National Council on Disability, 1331 F Street, NW, Suite 850, Washington, DC.

Quarterly Meeting Dates: November 5-6, 2001, 8:30 a.m. to 5 p.m.

Location: Marriott Hotel at Metro Center, 775 12th Street, NW, Washington, DC; 202-737-2200.

FOR FURTHER INFORMATION CONTACT: Mark S. Quigley, Public Affairs, Specialist, National Council on Disability, 1331 F Street NW., Suite 850, Washington, DC 20004; 202-272-2004 (Voice), 202-272-2074 (TTY), 202-272-2022 (Fax).

Agency Mission: NCD is an independent federal agency composed of 15 members appointed by the President and confirmed by the U.S. Senate. Its overall purpose is to promote policies, programs, practices, and procedures that guarantee equal opportunity for all people with disabilities, including people from culturally diverse backgrounds, regardless of the nature or significance of the disability; and to employer people with disabilities to achieve economic self-sufficiency, independent living, and inclusion and integration into all aspects of society.

Accommodations: Those needing sign language interpreters or other disability accommodations should notify NCD at least one week prior to these meetings.

Language Translation: In accordance with Executive Order 13166, Improving Access to Services for Persons with Limited English Proficiency, those people with disabilities who are limited English proficient and seek translation services for these meetings should notify NCD at least week prior to these meetings.

Multiple Chemical Sensitivity Environment Illness: People with multiple chemical sensitivity/environmental illness must reduce their exposure to volatile chemical substances to attend these meetings. To reduce such exposure, NCD requests that attendees not wear perfumes or scented products at these meetings. Smoking is prohibited in meeting rooms and surrounding areas.

Open Meetings: In accordance with the Government in the Sunshine Act and NCD's bylaws, this open house and quarterly meeting will be open to the public for observation, except where NCD determines tha a meeting or portion thereof should be closed in accordance with NCD's regulations pursuant to the Government in the Sunshine Act. A majority of NCD members present shall determine when a meeting or portion thereof is closed to the public, in accordance with the Government in the Sunshine Act. At meetings open to the public, NCD may determine when non-members may participate in its discussions. Observers are not expected to participate in NCD meetings unless requested to do so by an NCD member and recognized by the NCD chairperson.

Open House Agenda: This is an opportunity for attendees to meet NCD members and staff and informally discuss current and emerging disability issues.

Quarterly Meeting Agenda:

Reports from the Chairperson and the Executive Director

Committee Meetings and Committee Reports

Executive Session (closed)

Unfinished Business

New Business

Announcements

Adjournment

Records will be kept of all National Council on Disability proceedings and will be available after the quarterly meeting for public inspection at the National Council on Disability.

Signed in Washington, DC, on October 12, 2201.
Ethel D. Briggs,
Executive Director.

[FR Doc. 01-26064 Filed 10-12-01; 10:37 am]

BILLING CODE 6820-MA-M